DEPARTMENT OF THE INTERIOR

Bureau of Ocean Energy Management

[MMAA104000]

Mid-Atlantic Regional Ocean Action Plan

AGENCY: Bureau of Ocean Energy Management, National Park Service, U.S. Fish and Wildlife Service, U.S. Geological Survey, Department of the Interior; National Oceanic and Atmospheric Administration, Department of Commerce; U.S. Army Corps of Engineers, the Joint Staff, the Department of Defense; Environmental Protection Agency; Department of Energy; U.S. Coast Guard, the Department of Homeland Security; Department of Transportation; and the Department of Agriculture.

ACTION: Notice with request for comments.

SUMMARY: The Mid-Atlantic Regional Planning Body (MidA RPB), which includes eight Federal agencies and departments, six states, two Federally-recognized Indian Tribes, and the Mid-Atlantic Fishery Management Council, is requesting public comment on its draft Mid-Atlantic Regional Ocean Action Plan (draft Plan). The MidA RPB collaboratively prepared the draft Plan, pursuant to the National Ocean Policy, to build upon and improve existing Federal, state, and tribal decision-making and planning processes in the Mid-Atlantic Region. The Department of the Interior's Bureau of Ocean Energy Management (BOEM), as lead Federal agency for the MidA RPB, is publishing this notice on behalf of the MidA RPB. The MidA RPB will consider all public comments in revising the draft Plan, and will submit a final Plan to the National Ocean Council (NOC or Council) for its concurrence.

DATES: Submit comments on or before September 6, 2016 (60 days after publication in the Federal Register on July 6, 2016).

ADDRESSES: Submit your comments, identified by one of the following methods:

• Email: MidAtlanticRPB@boem.gov; and

• Mail: Robert P. LaBelle, Federal Co-Lead, Mid-Atlantic Regional Planning Body, BOEM, 45600 Woodland Road, Mailstop: VAM-BOEM DIR, Sterling, VA 20166.

Comments will be made available to the public on http://www.boem.gov/Written-Public-Comments-Submitted-to-the-MidA-RPB/. If you do not want your personal contact information to be publicly viewable, please do not include it in your comment or any accompanying documents.

The Draft Mid-Atlantic Ocean Action Plan may be obtained online at: www.boem.gov/Ocean-Action-Plan/.

FOR FURTHER INFORMATION CONTACT: Robert P. LaBelle, Federal Co-Lead, Mid-Atlantic Regional Planning Body, BOEM, 45600 Woodland Road, Mailstop: VAM-BOEM DIR, Sterling, VA 20166.

SUPPLEMENTARY INFORMATION:

I. Background

National Ocean Policy

Executive Order 13547, signed July 19, 2010, Stewardship of the Ocean, Our Coasts, and the Great Lakes (National Ocean Policy), established a national policy to protect, maintain, and restore the health and biodiversity of the ocean, coastal, and Great Lakes ecosystems and resources; enhance the sustainability of the ocean and coastal economies; preserve our maritime heritage; support sustainable uses and access; provide for adaptive management to enhance our understanding of and capacity to respond to climate change and ocean acidification; increase our scientific understanding and awareness of changing environmental conditions, trends, and their causes; and perform duties in accordance with applicable international law, including respect for and preservation of navigational rights and freedoms, which are essential for the global economy, international peace, national security, and foreign policy interests. The National Ocean Policy encourages a comprehensive, adaptive, integrated, ecosystem-based, and transparent ocean planning process based on sound science for analyzing current and anticipated uses of ocean and coastal areas. The National Ocean Policy also provides for intergovernmental regional planning bodies' voluntary development of regional marine plans that build upon and improve existing Federal, state, and tribal decision-making and planning processes. These regional plans, developed by, for, and in the regions, will enable a more integrated, comprehensive, ecosystem-based, flexible, and proactive approach to planning and managing sustainable multiple uses across sectors, and will improve the conservation of the ocean, our coasts, and the Great Lakes.

Mid-Atlantic Regional Planning Body

The MidA RPB includes six states (New York, New Jersey, Pennsylvania, Delaware, Maryland, and Virginia); two Federally-recognized Indian Tribes (the Shinnecock Indian Nation and the Pamunkey Indian Tribe); eight Federal agencies and departments (U.S. Department of Agriculture, U.S. Department of Commerce, U.S. Department of Defense, U.S. Department of Energy, U.S. Department of Homeland Security, U.S. Department of the Interior, U.S. Department of Transportation, and the U.S. Environmental Protection Agency) and component sub-agencies (including the Bureau of Ocean Energy Management, the National Park Service, the U.S. Fish and Wildlife Service, the U.S. Geological Survey, the National Oceanic Atmospheric and Administration, the Maritime Administration, the U.S. Coast Guard, the Joint Staff, and the U.S. Army Corps of Engineers); and the Mid-Atlantic Fishery Management Council. The MidA RPB is not a regulatory body and has no independent legal authority to regulate or direct Federal, state or tribal entities, nor does the draft Plan, described below, augment or subtract from any entity's existing statutory or other authorities.

Development of the Draft Mid-Atlantic Ocean Action Plan

The MidA RPB met for the first time in September 2013. The MidA RPB directed the formal processes and developed the draft Plan over the course of three years. The MidA RPB process leading to the draft Plan included a total of five multi-day public meetings between September 2013 and March 2016. Between MidA RPB meetings, there was ongoing outreach to obtain public feedback, identify and discuss issues, review data, and procure scientific input. For example, members of the MidA RPB met with expert work groups, stakeholder groups, environmental groups, and marine industries, including commercial fishing and shipping groups. The MidA RPB will review all comments received during the public comment period, and revise the draft Plan at the close of the comment period. The MidA RPB will consider all public comments received in making its revisions, and will then submit a final Plan to the NOC for its concurrence.

The draft Plan is based on science and informed by stakeholder data and input. Throughout the planning process, the MidA RPB involved stakeholders in developing data products regarding ocean-based human activities (for example, shipping, fishing, recreation, and energy generation) and marine life and habitat (through review of the methods, analyses, and draft products for spatial data characterizing species and their habitat). The MidA RPB also encouraged stakeholders to review spatial data on the Mid-Atlantic Ocean Data Portal (the Portal). In collaboration with the Mid-Atlantic Ocean Data Portal Working Group, the MidA RPB developed the Portal as an online source that incorporates maps and data on marine life distribution and human activities. The Portal is available online at: http://midatlanticocean.org/data-portal/.

II. The Draft Mid-Atlantic Ocean Action Plan

The draft Plan, developed using the best available science and knowledge, provides an integrated, comprehensive, flexible, and proactive approach to planning and managing uses of the Mid-Atlantic marine environment. The draft Plan is a forward-looking document intended to strengthen interagency coordination, planning, and policy implementation, and to enhance public participation. The draft Plan has two main goals: (1) Healthy ocean ecosystems; and (2) sustainable ocean uses. The draft Plan promotes the use of data from the Portal to inform agency actions, enhance stakeholder input and involvement, locate potential areas of conflict, and identify additional information and science needs. The draft Plan also describes best practices for Federal inter-agency coordination, as well as coordination among Federal agencies, tribes, states, and other stakeholders. The draft Plan enhances the tools and information available for Federal agency actions and planning, and clarifies alternatives and opportunities within the context of tribal and state agency actions, thereby increasing coordination opportunities across these government entities.

As previously stated, the draft Plan does not augment or subtract from any entity's existing statutory or other authorities. The draft Plan provides a strategy to monitor and analyze trends in ecosystem health, and undertake efforts to communicate progress toward achieving the two main goals of the draft Plan. The draft Plan is a foundation, not a finished structure, and it will continue to evolve as new trends, information, and needs emerge.

III. Implementation of the Mid-Atlantic Ocean Action Plan

Executive Order 13547, which adopts the Final Recommendations of the Interagency Ocean Policy Task Force (Final Recommendations), establishes a process for the NOC to review and certify each regional marine plan to ensure it is consistent with the National Ocean Policy and includes the essential elements described in the Final Recommendations.

The NOC issued guidance to the NOC member agencies in the form of the Marine Planning Handbook (Handbook). The Handbook calls for the NOC member agencies to concur that regional marine plans submitted by the regional planning bodies are consistent with the substantive and procedural standards set forth in the Final Recommendations. The NOC concurrence operates as the certification described in Executive Order 13547. By concurring that the Mid-Atlantic Ocean Action Plan was developed in accordance with the substantive and procedural standards in the Final Recommendations, the NOC certifies that Federal members of the MidA RPB will use the Plan to guide and inform their actions consistent with their existing statutory and regulatory authorities. Consistent with Executive Order 13547, each NOC member will, as described in the Final Recommendations, and to the fullest extent consistent with applicable law, comply with those regional plans certified by the NOC.

The Federal members of the MidA RPB administer a wide range of statutes and programs affecting the marine environment in the Mid-Atlantic. These Federal departments and agencies carry out actions under Federal laws involving a wide range of regulatory responsibilities and non-regulatory missions and management activities throughout the Nation's waterways and the ocean. These activities include managing and developing marine transportation systems, national security and homeland defense activities, regulating ocean discharges, siting energy facilities, permitting sand removal and beach re-nourishment, managing national parks and national wildlife refuges, regulating commercial and recreational fishing, and managing activities affecting threatened and endangered species and migratory birds.

The specific manner and mechanism a Federal agency uses to implement the final Mid-Atlantic Ocean Action Plan will depend on that agency's mission, authorities, and activities in the marine environment. The Federal members of the MidA RPB will publicly describe the administrative mechanisms they will use to implement the Plan when the MidA RPB submits the Plan to the NOC for review and concurrence.

If the NOC concurs (i.e., certifies) that the Plan is consistent with Executive Order 13547, the Final Recommendations, and the Handbook, each Federal MidA RPB member will incorporate the final Plan into their planning processes and internal agency documents, and use the Plan to guide and inform their decisions and actions, consistent with applicable law. Federal MidA RPB members with regulatory responsibilities will incorporate the final Plan into their pre-planning, planning, and permitting to guide and inform Federal agency internal and external permitting decisions, environmental compliance, resource management plans, and other actions taken pursuant to existing statutory and regulatory authorities. These agencies will ensure their scientists, managers, decision-makers, and analysts use the Mid-Atlantic Regional Ocean Action Plan to guide and inform their actions to the fullest extent possible under existing statutory and regulatory authorities. As noted throughout the Final Recommendations, the Mid-Atlantic Ocean Action Plan will not create new authorities, regulations, or Federal agency missions. All Federal activities will continue to be managed under existing statutory and regulatory authorities.

IV. Conclusion

Through Executive Order 13547, Stewardship of the Ocean, Our Coasts, and the Great Lakes, President Obama established a National Ocean Policy to ensure the protection, maintenance, and restoration of the health of ocean, coastal, and Great Lakes ecosystems and resources; enhance the sustainability of ocean and coastal economies; preserve our maritime heritage; support sustainable uses and access; provide for adaptive management of ocean and coastal resources to enhance our understanding of and capacity to respond to climate change and ocean acidification; and coordinate ocean policy with our national security and foreign policy interests.

The MidA RPB anticipates the Mid-Atlantic Regional Ocean Action Plan will increase the sharing of information and data across resource managers, stakeholders, and the public; enhance decision-making through collaboration and coordination among Federal, state, and tribal governments; and provide for an improved information and data system that characterizes human activities and natural resources in Mid-Atlantic waters from the coast to 200 nautical miles offshore. This informational overlay, along with the best practices for improved coordination, will improve the context for decisions affecting the resources and coastal and ocean waters of the Mid-Atlantic region.

Authority: Executive Order 13547, “Stewardship of the Ocean, Our Coasts and the Great Lakes” (July 19, 2010).

Dated: June 22, 2016.
Kristen J. Sarri,
Principal Deputy Assistant Secretary Policy, Management and Budget.

[FR Doc. 2016-15588 Filed 7-5-16; 8:45 am]

BILLING CODE 4310-MR-P